DEPARTMENT OF LABOR

Office of the Assistant Secretary for Veterans Employment and Training

President's National Hire Veterans Committee; Notice of Open Meeting

The President's National Hire Veterans Committee was established under 38 U.S.C. 4100 Public Law 107-288, Jobs For Veterans Act, to furnish information to employers with respect to the training and skills of veterans and disabled veterans, and to the advantages afforded employers by hiring veterans with training and skills and to facilitate the employment of veterans and disabled veterans through participation in Career One Stop National Labor Exchange, and other means.

The President's National Hire Veterans Committee will meet on Thursday, November 17, 2005 beginning at 1 p.m. in the Board Room of the United Brotherhood of Carpenters, 100 Constitution Avenue, NW., Washington, DC.

The committee will discuss raising corporate awareness about the advantages of hiring veterans.

Individuals needing special accommodations should notify Bill Offutt at (202) 693-4717 by November 10, 2005.

Signed at Washington D.C., this 19th day of October, 2005.
Charles S. Ciccolella,
Assistant Secretary of Labor for Veterans' Employment and Training.

[FR Doc. 05-21277 Filed 10-24-05; 8:45 am]

BILLING CODE 4510-79-P